DEPARTMENT OF HOMELAND SECURITY

[Docket No. DHS-2020-0002]

Notice of Request for Extension of a Currently Approved Information Collection for Chemical-Terrorism Vulnerability Information (CVI)

AGENCY: Cybersecurity and Infrastructure Security Agency, DHS.

ACTION: 30-Day notice and request for comments; extension of Information Collection Request: 1670-0015.

SUMMARY: The Infrastructure Security Division (ISD) within the Cybersecurity and Infrastructure Security Agency (CISA) will submit the following Information Collection Request (ICR) to the Office of Management and Budget (OMB) for review and clearance in accordance with the Paperwork Reduction Act of 1995. CISA previously published a notice about this ICR, in the Federal Register on March 30, 2020, for a 60-day comment period. 85 FR 17953.¹ There were no comments received. In this notice, CISA solicits additional public comment concerning this ICR for 30-days in accordance with 5 CFR 1320.8.

¹ The 60-day notice may be viewed at https://www.federalregister.gov/d/2020-06499.

DATES: Comments are due by August 19, 2020.

ADDRESSES: Interested persons are invited to submit written comments on the proposed information collection to the Office of Information and Regulatory Affairs, OMB. Comments should be addressed to OMB Desk Officer, Department of Homeland Security, Cybersecurity and Infrastructure Security Agency, and sent via electronic mail to dhsdeskofficer@omb.eop.gov. All submissions must include the words “Department of Homeland Security” and the OMB Control Number 1670-0015.

Comments submitted in response to this notice may be made available to the public through relevant websites. For this reason, please do not include in your comments information of a confidential nature, such as sensitive personal information or proprietary information. Please note that responses to this public comment request containing any routine notice about the confidentiality of the communication will be treated as public comments that may be made available to the public notwithstanding the inclusion of the routine notice.

Comments that include trade secrets, confidential commercial or financial information, Chemical-terrorism Vulnerability Information (CVI),² Sensitive Security Information (SSI),³ or Protected Critical Infrastructure Information (PCII) ⁴ should not be submitted to the public docket. Comments containing trade secrets, confidential commercial or financial information, CVI, SSI, or PCII should be appropriately marked and packaged in accordance with applicable requirements and submitted by mail to the DHS/CISA/Infrastructure Security Division, CFATS Program Manager, 245 Murray Lane SW, Mail Stop 0610, Arlington, VA 20528-0610. The Department will forward all comments received by the submission deadline to the OMB Desk Officer.

² For more information about CVI see 6 CFR 27.400 and the CVI Procedural Manual at www.dhs.gov/publication/safeguarding-cvi-manual.

³ For more information about SSI see 49 CFR part 1520 and the SSI Program web page at www.tsa.gov/for-industry/sensitive-security-information.

⁴ For more information about PCII see 6 CFR part 29 and the PCII Program web page at www.dhs.gov/pcii-program.

FOR FURTHER INFORMATION CONTACT: Lona Saccomando, 703-235-5263, CISARegulations@cisa.dhs.gov.

SUPPLEMENTARY INFORMATION: The CFATS Program identifies and regulates the security of high-risk chemical facilities using a risk-based approach. Congress initially authorized the CFATS Program under Section 550 of the Department of Homeland Security Appropriations Act of 2007, Public Law 109-295 (2006) and reauthorized it under the Protecting and Securing Chemical Facilities from Terrorist Attacks Act of 2014 ⁵ or “CFATS Act of 2014”. The Department implemented the CFATS Program through rulemaking and issued an Interim Final Rule (IFR) on April 9, 2007 and a final rule on November 20, 2007. See 72 FR 17688 and 72 FR 65396.

⁵ The Protecting and Securing Chemical Facilities from Terrorist Attacks Act of 2014 (also known as the CFATS Act of 2014, Public Law 113-254) codified the CFATS program into the Homeland Security Act of 2002. See 6 U.S.C. 621 et seq., as amended by Public Law 116-136, Sec. 16007 (2020).

Pursuant to 6 U.S.C. 623, the CFATS regulations establish the requirements under 6 CFR 27.400 that covered persons must follow to safeguard certain documents and other information developed under the regulations from unauthorized disclosure. This information is identified as CVI and, by law, receives protection from public disclosure and misuse. This collection will be used to manage the CVI program in support of CFATS. The current information collection for the CVI program (IC 1670-0015) will expire on January 31, 2021.⁶

⁶ The current information collection for CVI (i.e., IC 1670-0015) may be viewed at https://www.reginfo.gov/public/do/PRAViewICR?ref_nbr=201704-1670-002.

Analysis

CISA continues to rely on the analysis and resulting burden estimates provided in the 60-day notice for the Chemical-terrorism Vulnerability Information Authorization instrument.

Public Participation

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques, or other forms of information technology (e.g., permitting electronic submissions of responses).

Analysis

Agency: Department of Homeland Security, Cybersecurity and Infrastructure Agency, Infrastructure Security Division, Infrastructure Security Compliance Division.

Title: CFATS Chemical-terrorism Vulnerability Information.

OMB Number: 1670-0015.

Instrument: Chemical-terrorism Vulnerability Information Authorization.

Frequency: “On occasion” and “Other”.

Affected Public: Business or other for-profit.

Number of Respondents: 20,000 respondents (rounded estimate).

Estimated Time per Respondent: 0.50 hours.

Total Burden Hours: 10,000 annual burden hours.

Total Burden Cost (capital/startup): $0.

Total Recordkeeping Burden: $0.

Total Burden Cost: $797,474.

Richard S. Libby,
Deputy Chief Information Officer, Department of Homeland Security, Cybersecurity and Infrastructure Security Agency.

[FR Doc. 2020-15570 Filed 7-17-20; 8:45 am]

BILLING CODE 4410-10-P